DEPARTMENT OF ENERGY

Federal Energy Regulatory Commission

Combined Notice of Filings #1

Take notice that the Commission received the following electric corporate filings:

Docket Numbers: EC19-9-000.

Applicants: GE Capital Global Holdings, LLC, Arlington Valley Solar Energy II, LLC, CPV Fairview, LLC, Russell City Energy Company, LLC, Caledonia Generating, LLC, Apollo Global Management, LLC.

Description: Joint Application for Authorization Under Section 203 of the Federal Power Act, et al. of Arlington Valley Solar Energy II, LLC, et al.

Filed Date: 10/11/18.

Accession Number: 20181011-5154.

Comments Due: 5 p.m. ET 11/1/18.

Docket Numbers: EC19-10-000.

Applicants: Clean Energy Future—Lordstown, LLC, Perennial Lordstown, LLC.

Description: Joint Application for Authorization Under Section 203 of the Federal Power Act, et al. of Clean Energy Future—Lordstown, LLC, et al.

Filed Date: 10/11/18.

Accession Number: 20181011-5165.

Comments Due: 5 p.m. ET 11/1/18.

Take notice that the Commission received the following electric rate filings:

Docket Numbers: ER13-821-012: ER12-281-011; ER10-1529-005.

Applicants: Scrubgrass Generating Company, L.P. Northampton Generating Company, L.P., Northern Iowa Windpower, LLC.

Description: Notice of Change in Status of Scrubgrass Generating Company, L.P., et al.

Filed Date: 10/10/18.

Accession Number: 20181010-5165.

Comments Due: 5 p.m. ET 10/31/18.

Docket Numbers: ER14-152-009; ER13-1143-006; ER13-1144-006; ER10-2196-005; ER17-1849-002; ER10-2740-013; ER15-1657-007; ER10-2742-012.

Applicants: Elgin Energy Center, LLC, Essential Power OPP, LLC, Essential Power Rock Springs, LLC, Lakewood Cogeneration, L.P., Nautilus Power, LLC, Rocky Road Power, LLC, SEPG Energy Marketing Services, LLC, Tilton Energy LLC.

Description: Notice of Non-Material Change in Status of Elgin Energy Center, LLC, et al.

Filed Date: 10/11/18.

Accession Number: 20181011-5177.

Comments Due: 5 p.m. ET 11/1/18.

Docket Numbers: ER18-2272-001.

Applicants: Midcontinent Independent System Operator, Inc.

Description: Tariff Amendment: 2018-10-12_SA 3144 ETI-Liberty County-ETI MPFCA (J472 J483) Sub Original to be effective 8/7/2018.

Filed Date: 10/12/18.

Accession Number: 20181012-5022.

Comments Due: 5 p.m. ET 11/2/18.

Docket Numbers: ER18-2336-001.

Applicants: Midcontinent Independent System Operator, Inc.

Description: Tariff Amendment: 2018-10-12_SA 3150 CMS Energy Resource-METC GIA (J571) Substitute Original to be effective 8/15/2018.

Filed Date: 10/12/18.

Accession Number: 20181012-5026.

Comments Due: 5 p.m. ET 11/2/18.

Docket Numbers: ER19-89-000.

Applicants: North Rosamond Solar, LLC.

Description: Baseline eTariff Filing: Market-Based Rate Authorization and Request for Waivers and Blanket Approvals to be effective 10/12/2018.

Filed Date: 10/11/18.

Accession Number: 20181011-5146.

Comments Due: 5 p.m. ET 11/1/18.

Docket Numbers: ER19-90-000.

Applicants: Clean Energy Future—Lordstown, LLC.

Description: Baseline eTariff Filing: Reactive Power Tariff Application to be effective 12/1/2018.

Filed Date: 10/11/18.

Accession Number: 20181011-5150.

Comments Due: 5 p.m. ET 11/1/18.

Docket Numbers: ER19-91-000.

Applicants: GRP Franklin, LLC.

Description: Baseline eTariff Filing: Application for Market Based Rate to be effective 12/8/2018.

Filed Date: 10/10/18.

Accession Number: 20181010-5163.

Comments Due: 5 p.m. ET 10/31/18.

Docket Numbers: ER19-92-000.

Applicants: GRP Madison, LLC.

Description: Baseline eTariff Filing: Market Based Rate Application to be effective 12/8/2018.

Filed Date: 10/10/18.

Accession Number: 20181010-5164.

Comments Due: 5 p.m. ET 10/31/18.

Docket Numbers: ER19-93-000.

Applicants: Midcontinent Independent System Operator, Inc.

Description: § 205(d) Rate Filing: 2018-10-12_SA 3175 Deltas Edge—EMI GIA (J679) to be effective 9/27/2018.

Filed Date: 10/12/18.

Accession Number: 20181012-5028.

Comments Due: 5 p.m. ET 11/2/18.

Docket Numbers: ER19-94-000.

Applicants: Clear River Energy LLC, Invenergy Energy Management LLC.

Description: Request for Limited Waiver, et al. of Clear River Energy LLC, et al.

Filed Date: 10/11/18.

Accession Number: 20181011-5176.

Comments Due: 5 p.m. ET 10/25/18.

Docket Numbers: ER19-95-000.

Applicants: North Rosamond Solar, LLC.

Description: § 205(d) Rate Filing: Filing of Shared Facilities Common Ownership Agreement (Rattlesnake substation) to be effective 10/14/2018.

Filed Date: 10/12/18.

Accession Number: 20181012-5053.

Comments Due: 5 p.m. ET 11/2/18.

Docket Numbers: ER19-96-000.

Applicants: North Rosamond Solar, LLC.

Description: § 205(d) Rate Filing: Certificates of Concurrence for Shared Facilities Agreements to be effective 10/14/2018.

Filed Date: 10/12/18.

Accession Number: 20181012-5054.

Comments Due: 5 p.m. ET 11/2/18.

Docket Numbers: ER19-97-000.

Applicants: Southwest Power Pool, Inc.

Description: Reliability Penalty Cost Recovery, et al. of Southwest Power Pool, Inc.

Filed Date: 10/11/18.

Accession Number: 20181011-5178.

Comments Due: 5 p.m. ET 11/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2018.
Nathaniel J. Davis, Sr.,
Deputy Secretary.

[FR Doc. 2018-22713 Filed 10-17-18; 8:45 am]

BILLING CODE 6717-01-P